DEPARTMENT OF ENERGY

Federal Energy Regulatory Commission

[Project No. 13871-000—Colorado]

Wagon Wheel Associates; Notice of Availability of Environmental Assessment

December 22, 2010.

In accordance with the National Environmental Policy Act of 1969 and the Federal Energy Regulatory Commission's regulations, 18 CFR part 380 (Order No. 486, 52 FR 47897), the Office of Energy Projects has reviewed the application for exemption from licensing for the Humphreys Hydroelectric Project, to be located on Goose Creek (in the Rio Grande River basin), near the town of South Fork, in Mineral County, Colorado, and has prepared an Environmental Assessment (EA). In the EA, Commission staff analyze the potential environmental effects of the proposed project and conclude that issuing an exemption for the proposed project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/esubscribenow.htm to be notified via e-mail of new filings and issuances related to this or other pending projects. For assistance, contact FERC Online Support at FERCOnlineSupport@ferc.gov or toll-free at 1-866-208-3676, or for TTY, (202) 502-8659.

Please contact Carolyn Templeton by telephone at (202) 502-8785 or by e-mail at carolyn.templeton@ferc.gov if you have any questions.

Kimberly D. Bose,
Secretary.

[FR Doc. 2010-32842 Filed 12-29-10; 8:45 am]

BILLING CODE 6717-01-P